DEPARTMENT OF TRANSPORTATION

Federal Aviation Administration

14 CFR Part 97

[Docket No. 30670 Amdt. No. 3324]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 15, 2009. The compliance date for each SIAP, associated Takeoff Minimums, and ODP is specified in the amendatory provisions.

The incorporation by reference of certain publications listed in the regulations is approved by the Director of the Federal Register as of June 15, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPs, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 29, 2009.
John M. Allen,
Director, Flight Standards Service.

Adoption of the Amendment

Accordingly, pursuant to the authority delegated to me, title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 02 JUL 2009

Brooksville, FL, Hernando County, RNAV (GPS) RWY 3, Amdt 1

Brooksville, FL, Hernando County, RNAV (GPS) RWY 9, amdt 1

Brooksville, FL, Hernando County, RNAV (GPS) RWY 21, Amdt 1

Brooksville, FL, Hernando County, RNAV (GPS) RWY 27, Amdt 1

Brooksville, FL, Hernando County, Takeoff Minimums and Obstacle DP, Orig

Fort Lauderdale, FL, Fort Lauderdale/Hollywood Intl, RNAV (GPS) RWY 13, Amdt 1

Fort Lauderdale, FL, Fort Lauderdale/Hollywood Intl, RNAV (GPS) RWY 27L, Orig

Fort Stewart (Hinesville), GA, Wright AAF (Fort Stewart)/Midcoast Rgnl, NDB RWY 33R, Orig Fort Stewart (Hinesville), GA, Wright AAF (Fort Stewart)/Midcoast Rgnl, RADAR 1, Original, (CANCELLED) Fort Stewart (Hinesville), GA, Wright AAF (Fort Stewart)/Midcoast Rgnl, RNAV (GPS) RWY 6L, Orig Fort Stewart (Hinesville), GA, Wright AAF (Fort Stewart)/Midcoast Rgnl, RNAV (GPS) RWY 33R, Orig Fort Stewart (Hinesville), GA, Wright AAF (Fort Stewart)/Midcoast Rgnl, Takeoff Minimums and Obstacle DP, Orig

Savannah, GA, Savannah/Hilton Head Intl, ILS OR LOC RWY 1, Amdt 8

Savannah, GA, Savannah/Hilton Head Intl, ILS OR LOC RWY 10, Amdt 27A

Savannah, GA, Savannah/Hilton Head Intl, RNAV (GPS) RWY 1, Amdt 2

Savannah, GA, Savannah/Hilton Head Intl, RNAV (GPS) RWY 10, Amdt 2

Savannah, GA, Savannah/Hilton Head Intl, RNAV (GPS) RWY 19, Amdt 2

Savannah, GA, Savannah/Hilton Head Intl, RNAV (GPS) Z RWY 28, Amdt 2

Savannah, GA, Savannah/Hilton Head Intl, Takeoff Minimums and Obstacle DP, Amdt 6

Savannah, GA, Savannah/Hilton Head Intl, VOR/DME-A, Orig-A

Savannah, GA, Savannah/Hilton Head Intl, VOR/DME OR TACAN RWY 1, Orig-B

Savannah, GA, Savannah/Hilton Head Intl, VOR/DME OR TACAN RWY 19, Orig-A

Richmond, IN, Richmond Muni, RNAV (GPS) RWY 33, Orig

Houma, LA, Houma-Terrebonne, COPTER VOR/DME RWY 12, Amdt 4

Houma, LA, Houma-Terrebonne, GPS RWY 12, Amdt 1A, CANCELLED

Houma, LA, Houma-Terrebonne, GPS RWY 18, Orig-A, CANCELLED

Houma, LA, Houma-Terrebonne, GPS RWY 36, Orig-A, CANCELLED

Houma, LA, Houma-Terrebonne, ILS OR LOC RWY 18, Amdt 4

Houma, LA, Houma-Terrebonne, RNAV (GPS) RWY 12, Orig

Houma, LA, Houma-Terrebonne, RNAV (GPS) RWY 18, Orig

Houma, LA, Houma-Terrebonne, RNAV (GPS) RWY 30, Orig

Houma, LA, Houma-Terrebonne, RNAV (GPS) RWY 36, Orig

Houma, LA, Houma-Terrebonne, Takeoff Minimums and Obstacle DP, Amdt 5

Houma, LA, Houma-Terrebonne, VOR/DME RWY 30, Amdt 12

Grand Rapids, MI, Gerald R. Ford Intl, ILS OR LOC RWY 8R, Amdt 6

Grand Rapids, MI, Gerald R. Ford Intl, ILS OR LOC RWY 26L, Amdt 21

Grand Rapids, MI, Gerald R. Ford Intl, ILS OR LOC RWY 35, Amdt 1

Grand Rapids, MI, Gerald R. Ford Intl, RNAV (GPS) RWY 8L, Amdt 1

Grand Rapids, MI, Gerald R. Ford Intl, RNAV (GPS) RWY 8R, Amdt 1

Grand Rapids, MI, Gerald R. Ford Intl, RNAV (GPS) RWY 17, Amdt 1

Grand Rapids, MI, Gerald R. Ford Intl, RNAV (GPS) RWY 26L, Amdt 1

Grand Rapids, MI, Gerald R. Ford Intl, RNAV (GPS) RWY 26R, Amdt 1

Grand Rapids, MI, Gerald R. Ford Intl, RNAV (GPS) RWY 35, Amdt 1

Grand Rapids, MI, Gerald R. Ford Intl, Takeoff Minimums and Obstacle DP, Amdt 2

Grand Rapids, MI, Gerald R. Ford Intl, VOR RWY 35, Amdt 1

Maryville, MO, Northwest Missouri Rgnl, RNAV (GPS) RWY 14, Orig

Maryville, MO, Northwest Missouri Rgnl, Takeoff Minimums and Obstacle DP, Amdt 3

Maryville, MO, Northwest Missouri Rgnl, VOR/DME OR GPS RWY 36, Amdt 4, CANCELLED

Blair, NE, Blair Muni, RNAV (GPS) RWY 13, Orig

Blair, NE, Blair Muni, RNAV (GPS) RWY 31, Orig

Blair, NE, Blair Muni, Takeoff Minimums and Obstacle DP, Orig

Reno, NV, Reno/Tahoe Intl, RNAV (RNP) Z RWY 16R, Orig-B

Cleveland, OH, Cuyahoga County, ILS OR LOC RWY 24, Amdt 14

Cleveland, OH, Cuyahoga County, LOC/DME BC RWY 6, Amdt 11

Cleveland, OH, Cuyahoga County, NDB OR GPS RWY 24, Amdt 8C, CANCELLED

Cleveland, OH, Cuyahoga County, RNAV (GPS) RWY 6, Orig

Cleveland, OH, Cuyahoga County, RNAV (GPS) RWY 24, Orig

Port Clinton, OH, Carl R Keller Field, GPS RWY 27, Amdt 1A, CANCELLED

Port Clinton, OH, Carl R Keller Field, NDB RWY 27, Amdt 13

Port Clinton, OH, Carl R Keller Field, RNAV (GPS) RWY 9, Orig

Port Clinton, OH, Carl R Keller Field, RNAV (GPS) RWY 27, Orig

Port Clinton, OH, Carl R Keller Field, Takeoff Minimums and Obstacle DP, Amdt 6

Port Clinton, OH, Carl R Keller Field, VOR/DME-A, Amdt 9

Erie, PA, Erie Intl/Tom Ridge Field, ILS OR LOC RWY 6, Amdt 16

Erie, PA, Erie Intl/Tom Ridge Field, ILS OR LOC/DME RWY 24, Amdt 8

Erie, PA, Erie Intl/Tom Ridge Field, NDB RWY 6, Amdt 1

Erie, PA, Erie Intl/Tom Ridge Field, NDB RWY 24, Amdt 18

Erie, PA, Erie Intl/Tom Ridge Field, RNAV (GPS) RWY 6, Orig

Erie, PA, Erie Intl/Tom Ridge Field, RNAV (GPS) RWY 24, Orig

Erie, PA, Erie Intl/Tom Ridge Field, Takeoff Minimums and Obstacle DP, Amdt 5

Erie, PA, Erie Intl/Tom Ridge Field, VOR RWY 6, Amdt 16

Erie, PA, Erie Intl/Tom Ridge Field, VOR/DME RWY 24, Amdt 12

Wilkes-Barre/Scranton, PA, Wilkes-Barre/Scranton Intl, ILS OR LOC/DME RWY 22, Amdt 6

Wilkes-Barre/Scranton, PA, Wilkes-Barre/Scranton Intl, RNAV (GPS) RWY 4, Orig

Wilkes-Barre/Scranton, PA, Wilkes-Barre/Scranton Intl, RNAV (GPS RWY 22, Orig

North Kingstown, RI, Quonset State, ILS OR LOC RWY 16, Amdt 10

Greenville, SC, Greenville Downtown, RNAV (GPS) RWY 1, Orig

Greenville, SC, Greenville Downtown, RNAV (GPS) RWY 10, Orig

Newberry, SC, Newberry County, GPS RWY 22, Orig, CANCELLED

Newberry, SC, Newberry County, RNAV (GPS) RWY 4, Orig

Newberry, SC, Newberry County, RNAV (GPS) RWY 22, Orig

Memphis, TN, Memphis Intl, ILS OR LOC RWY 18R, Amdt 14

Memphis, TN, Memphis Intl, RNAV (GPS) Z RWY 18C, Amdt 2

Memphis, TN, Memphis Intl, RNAV (GPS) Z RWY 18L, Amdt 2

Memphis, TN, Memphis Intl, RNAV (GPS) Z RWY 18R, Amdt 2

Memphis, TN, Memphis Intl, RNAV (RNP) X RWY 18L, Orig

Memphis, TN, Memphis Intl, RNAV (RNP) X RWY 18R, Orig

Memphis, TN, Memphis Intl, RNAV (RNP) Y RWY 18C, Orig

Memphis, TN, Memphis Intl, RNAV (RNP) Y RWY 18L, Orig

Memphis, TN, Memphis Intl, RNAV (RNP) Y RWY 18R, Orig

Mountain City, TN, Johnson County, RNAV (GPS) RWY 6, Orig

Mountain City, TN, Johnson County, RNAV (GPS) RWY 24, Orig

Savannah, TN, Savannah-Hardin County, GPS RWY 1, Orig, CANCELLED

Savannah, TN, Savannah-Hardin County, GPS RWY 19, Orig, CANCELLED

Savannah, TN, Savannah-Hardin County, RNAV (GPS) RWY 1, Orig

Savannah, TN, Savannah-Hardin County, RNAV (GPS) RWY 19, Orig

Oak Harbor, WA, A.J. Eisenberg, RNAV (GPS) RWY 7, Amdt 2C

[FR Doc. E9-13872 Filed 6-12-09; 8:45 am]

BILLING CODE 4910-13-P